DEPARTMENT OF HOUSING AND URBAN DEVELOPMENT

[Docket No. FR-4579-FA-04]

Announcement of Funding Awards for Fiscal Year 2000 for the Housing Choice Voucher Program

AGENCY: Office of the Assistant Secretary for Public and Indian Housing, HUD.

ACTION: Announcement funding awards.

SUMMARY: In accordance with Section 102(a)(4)(C) of the Department of Housing and Urban Development Reform Act of 1989, this document notifies the public of funding awards for Fiscal Year (FY) 2000 to housing agencies (HAs) under the Section 8 housing choice voucher program. The purpose of this notice is to publish the names, addresses, and the amount of the awards to housing agencies for housing conversion actions and mobility counseling.

FOR FURTHER INFORMATION CONTACT: Brian Fitzmaurice, Acting Director, Section 8 Financial Division, Office of Administration, Office of Public and Indian Housing, Room 4232, Department of Housing and Urban Development, 451 Seventh Street, SW., Washington, DC 20410-8000, telephone (202) 708-2934 (this is not a toll-free number). Hearing- or speech-impaired individuals may access this number via TTY by calling the toll-free Federal Information Relay Service at 1-800-877-8339.

SUPPLEMENTARY INFORMATION: The regulations governing the housing choice voucher program are published at 24 CFR Part 982. The regulations for allocating housing assistance budget authority under Section 213(d) of the Housing and Community Development Act of 1974 are published at 24 CFR part 791, subpart D.

The purpose of this rental assistance program is to assist eligible families to pay the rent for decent, safe, and sanitary housing. The FY 2000 awardees announced in this notice were provided Section 8 funds on an as needed basis. Announcements of awards provided pursuant with NOFAs for family unification, mainstream housing, and designated housing programs, and family self-sufficiency coordinators will be published in a separate Federal Register notice.

Awards published under this notice were provided to assist families living in HUD-owned properties that are being sold; to assist families affected by the expiration or termination of assistance; to provide relocation and replacement housing in connection with the demolition of public housing; to assist families in properties where the owner has prepaid the HUD mortgage; and to provide mobility counseling and assistance to families so that they may move to areas that have low racial and ethnic concentrations.

A total of $157,293,280 in budget authority for rental vouchers (29,333 units) was awarded to recipients under all of the above mentioned categories.

The Catalog of federal Domestic Assistance number for this program is 14.871.

In accordance with section 102(a)(4)(C) of the Department of Housing and Urban Development Reform Act of 1989 (103 Stat. 1987, 42 U.S.C. 3545), the Department is publishing the names, addresses, and amounts of those awards as shown in Appendix A.

Dated: February 15, 2001.
Gloria Cousar,
Acting General Deputy Assistant Secretary for Public and Indian Housing.

Appendix A

Section 8 Rental Assistance Programs Announcement of Awards for Fiscal Year 2000
Housing agency | Address | Units | Award
Preservations/Prepayments
CITY OF GLENDALE HSG AUTH | 6842 NORTH 61ST AVE, GLENDALE, AZ 85301 | 67 | 348,132
CITY OF PHOENIX | NEIGH'D IMPROV'T HSG D, 251 W WASHINGTON ST, 4TH FL, PHOENIX, AZ 85034 | 14 | 75,768
CITY OF YUMA HSG AUTH | 1350 W COLORADO ST, YUMA, AZ 85364 | 6 | 12,858
CITY OF LOS ANGELES HSG AUTH | 2600 WILSHIRE BLVD, LOS ANGELES, CA 90057 | 1 | 5,727
CITY OF PASADENA COMMUNITY DEV'T COMM | 100 N GARFIELD AVE, PASADENA, CA 91109 | 2 | 7,278
CITY OF ROSEVILLE HSG AUTH | 405 VERNON ST, STE 1, ROSEVILLE, CA 95678 | 32 | 105,130
COUNTY OF BUTTE HSG AUTH | 580 VALLOMBROSA AVE, CHICO, CA 95926 | 75 | 181,690
COUNTY OF LOS ANGELES HSG AUTH | 2 CORAL CIR, MONTEREY PARK, CA 91754 | 150 | 1,037,216
COUNTY OF RIVERSIDE HSG AUTH | 5555 ARLINGTON AVE, RIVERSIDE, CA 92504 | 130 | 375,081
COUNTY OF SAN BERNARDINO HSG AUTH | 1053 NORTH D ST, SAN BERNARDINO, CA 92410 | 23 | 48,572
COUNTY OF SAN DIEGO | 3989 RUFFIN RD, SAN DIEGO, CA 92123 | 4 | 12,773
COUNTY OF SAN JOAQUIN HSG AUTH | 448 SOUTH CENTER ST, P O BOX 447, STOCKTON, CA 95203 | 48 | 147,897
LASSEN COUNTY | 707 NEVADA ST, STE 5, SUSANVILLE, CA 96130 | 45 | 67,649
NEVADA COUNTY HSG AUTH | 10433 WILLOW VALLEY RD, STE C, NEVADA CITY, CA 95959 | 75 | 247,737
SAN DIEGO HSG COMMISSION | 1625 NEWTON AVE, SAN DIEGO, CA 92113 | 410 | 2,726,328
SAN JOSE HSG AUTH | 505 WEST JULIAN ST, SAN JOSE, CA 95110 | 203 | 1,956,108
YUBA COUNTY HSG AUTH | 938 14TH ST, MARYSVILLE, CA 95901 | 67 | 177,051
COLORADO SPRINGS HSG AUTH | P O BOX 1575, COLORADO SPRINGS, CO 80903 | 94 | 516,624
FORT COLLINS HSG AUTH | 1715 W MOUNTAIN AVE, FORT COLLINS, CO 80521 | 81 | 337,173
GRAND JUNCTION HSG AUTH | 805 MAIN ST, GRAND JUNCTION, CO 81501 | 3 | 7,653
BRISTOL HSG AUTH | 31 QUAKER LANE, BRISTOL, CT 06010 | 132 | 525,967
HAMDEN HSG AUTH | P O BOX 5095, HAMDEN, CT 06518 | 71 | 475,416
MIDDLETOWN HSG AUTH | 40 BROAD ST, MIDDLETOWN, CT 06457 | 151 | 649,393
NORWICH HSG AUTH | 10 WESTWOOD PARK, NORWICH, CT 06360 | 100 | 469,022
ROCKVILLE HSG AUTH | 21 COURT ST, P O BOX 963, ROCKVILLE, CT 06066 | 106 | 456,707
WALLINGFORD HSG AUTH | 45 TREMPER DR, WALLINGFORD TOWN, CT 06492 | 89 | 347,382
WATERBURY HSG AUTH | 2 LAKEWOOD RD, WATERBURY, CT 06704 | 212 | 929,357
WILLIMANTIC HSG AUTH | 49 WEST AVE, P O BOX 606, WILLIMANTIC, CT 06226 | 110 | 511,907
DC HSG AUTH | 1133 NORTH CAPITOL ST NE, WASHINGTON, DC 20002 | 78 | 399,532
CITY OF BRADENTON | 912 7TH AVE EAST, CALLER SERVICE 25015, BRADENTON, FL 34206 | 166 | 630,576
HSG AUTH DEERFIELD BEACH | 425 N.W 1ST TERR, 533 S DIXIE HGWY, 2ND FLR., DEERFIELD BEACH, FL 33441 | 156 | 584,566
HSG AUTH NEW SMYRNA BEACH | P O BOX 688, NEW SMYRNA BEACH, FL 32170 | 0 | 147,510
HSG AUTH OF JACKSONVILLE | 1300 BROAD ST, JACKSONVILLE, FL 32202 | 63 | 303,156
SEMINOLE COUNTY HSG AUTH | 300 SUNFLOWER CIR, DELAND, FL 32724 | 0 | 408,853
SIOUX CITY HSG SERVICES DIVISION | BOX 447, 520 ORPHEUM BUILDING, SIOUX CITY, IA 51102 | 108 | 410,832
CHICAGO HSG AUTH | 626 WEST JACKSON BLVD, CHICAGO, IL 60661 | 164 | 963,964
HSG AUTH OF COOK COUNTY | 310 SOUTH MICHIGAN AVE, 15TH FL, CHICAGO, IL 60604 | 248 | 896,154
HSG AUTH JACKSON COUNTY | P O BOX 1209, MURPHYSBORO, IL 62966 | 79 | 272,688
BEDFORD CITY HSG AUTH | 1305 K ST, BEDFORD, IN 47421 | 42 | 162,480
HSG AUTH CITY OF ELKHART | 1396 BENHAM AVE, ELKHART, IN 46516 | 99 | 294,688
HSG AUTH CITY OF EVANSVILLE | P O BOX 3605, 500 COURT ST, EVANSVILLE, IN 47735 | 0 | 93,324
HSG AUTH NEW ALBANY | P O BOX 11, NEW ALBANY, IN 47150 | 39 | 116,176
HSG AUTH OF THE CITY OF MARION | 601 SOUTH ADAMS ST, MARION, IN 46953 | 50 | 108,604
INDIANAPOLIS HSG AGCY | 1919 N MERIDIAN ST, INDIANAPOLIS, IN 46202 | 408 | 1,484,197
BOONE COUNTY HSG AUTH | 2950 WASHINGTON ST, RM 209, P O BOX 536, BURLINGTON, KY 41005 | 240 | 941,760
AMHERST HSG AUTH | 33 KELLOGG AVE, AMHERST, MA 01002 | 32 | 220,688
BRAINTREE HSG AUTH | 25 ROOSEVELT ST, BRAINTREE, MA 02184 | 260 | 3,749,908
BROCKTON HSG AUTH | 45 GODDARD RD, P O BOX 340, BROCKTON, MA 02303 | 18 | 47,161
COMM DEV PROG COMM OF MA., E.O.C.D. | ONE CONGRESS ST, 10TH FL, BOSTON, MA 02114 | 0 | 17,652
HAVERHILL HSG AUTH | 25-C WASHINGTON ST, HAVERHILL, MA 01831 | 154 | 657,702
HOLYOKE HSG AUTH | 475 MAPLE ST, HOLYOKE, MA 01040 | 74 | 305,939
NEW BEDFORD HSG AUTH | P O BOX A-2081, NEW BEDFORD, MA 02741 | 1 | 5,004
PITTSFIELD HSG AUTH | 65 COLUMBUS AVE, PITTSFIELD, MA 01201 | 10 | 15,668
MONTGOMERY CO HSG AUTH | 10400 DETRICK AVE, KENSINGTON, MD 20895 | 115 | 1,026,720
ANN ARBOR HSG COMMISSION | 727 MILLER AVE, ANN ARBOR, MI 48103 | 7 | 10,763
LANSING HSG COMMISSION | 310 NORTH SEYMOUR ST, LANSING, MI 48933 | 22 | 54,895
LINCOLN PARK HSG COMMISSION | 1356 ELECTRIC, LINCOLN PARK, MI 48146 | 38 | 98,198
LIVONIA HSG COMMISSION | 19300 PURLINGBROOK RD, LIVONIA, MI 48152 | 195 | 960,424
MICHIGAN STATE HSG DEV'T AUTH | 401 S WASHINGTON SQ, LANSING, MI 48909 | 662 | 2,595,848
ROSEVILLE HSG COMMISSION | 18330 EASTLAND, ROSEVILLE, MI 48066 | 18 | 48,640
MANKATO HRA | P O BOX 3368, MANKATO, MN 56002 | 120 | 385,911
NW MN MULTI-COUNTY HRA | P O BOX 128, MENTOR, MN 56736 | 13 | 31,081
OWATONNA HRA | 540 WEST HILLS CIR, OWATONNA, MN 55060 | 41 | 149,568
RICE COUNTY HRA | 208 FIRST AVE NORTHWEST, FARIBAULT, MN 55021 | 9 | 16,429
SOUTH CENTRAL MULTI COUNTY HRA | 410 JACKSON ST, STE 100, MANKATO, MN 56002 | 168 | 440,903
HSG AUTH OF KANSAS CITY, MISSOURI | 712 BROADWAY, KANSAS CITY, MO 64105 | 252 | 1,191,456
MT DEPT OF COMMERCE | P O B 200545, 836 FRONT ST, HELENA, MT 59620 | 38 | 57,309
CITY OF HICKORY PUBLIC HOUSING AUTH | 841 S CENTER ST, P O BOX 2927, HICKORY, NC 28603 | 26 | 67,828
HSG AUTH ASHEBORO | 338 W WAINMAN AVE, P O BOX 609, ASHEBORO, NC 27204 | 10 | 15,540
HSG AUTH GREENSBORO | 450 N CHURCH ST, P O BOX 21287, GREENSBORO, NC 27420 | 132 | 383,775
HSG AUTH OF THE CITY OF WILMINGTON | 508 S FRONT ST, P O BOX 899, WILMINGTON, NC 28402 | 71 | 294,883
BELLEVUE HSG AUTH | 8214 ARMSTRONG CIR, OMAHA, NE 68147 | 22 | 67,837
DOVER HSG AUTH | 62 WHITTIER ST, DOVER, NH 03820 | 120 | 590,284
MANCHESTER HSG AUTH | 198 HANOVER ST, MANCHESTER, NH 03104 | 198 | 778,532
NEW HAMPSHIRE HSG FINANCE AUTH | P O BOX 5087, MANCHESTER, NH 03108 | 2 | 5,400
PORTSMOUTH HSG AUTH | 245 MIDDLE ST, PORTSMOUTH, NH 03801 | 1 | 2,928
ROCHESTER HSG AUTH | WELLSWEEP ACRES, ROCHESTER, NH 03867 | 46 | 253,306
NEW JERSEY DEPT OF COMMUNITY AFFAIRS | 101 SOUTH BROAD ST, P O BOX 051, TRENTON, NJ 08625 | 86 | 645,000
ALBUQUERQUE HSG AUTH | 1840 UNIVERSITY BLVD SE, ALBUQUERQUE, NM 87106 | 67 | 195,340
CITY OF RENO HSG AUTH | 1525 EAST NINTH ST, RENO, NV 89512 | 67 | 426,821
TOWN OF PENFIELD | 675 W MAIN ST, ROCHESTER, NY 14611 | 294 | 748,129
LORAIN METRO HSG AUTH | 1600 KANSAS AVE, LORAIN, OH 44052 | 36 | 101,439
SEMINOLE HSG AUTH | P O BOX 1253, SEMINOLE, OK 74818 | 80 | 255,360
HSG AUTH OF WASHINGTON COUNTY | 111 NE LINCOLN ST, STE 200-L, MS63, HILLSBORO, OR 97124 | 47 | 212,281
ALLEGHENY COUNTY HSG AUTH | 341 FOURTH AVE FIDELITY BL, PITTSBURGH, PA 15222 | 167 | 398,936
HSG AUTH UNION | P O DRAWER 440, UNION, SC 29379 | 75 | 178,278
AUSTIN HSG AUTH | P O BOX 6159, AUSTIN, TX 78762 | 102 | 701,352
DALLAS COUNTY HSG ASSIST PGM | 2377 N STEMMONS FRWY, STE 200-LB 16, DALLAS, TX 75207 | 871 | 5,550,243
GARLAND HSG AUTH | P O BOX 469002, 210 CARVER ST, STE 201B, GARLAND, TX 75046 | 50 | 243,612
GRAND PRAIRIE HSNG & COMM DEV'T | P O BOX 534045, 201 NW 2ND. ST, STE 150, GRAND PRAIRIE, TX 75053 | 76 | 310,879
HSG AUTH OF DALLAS | 3939 N HAMPTON RD, DALLAS, TX 75212 | 249 | 1,404,724
HSG AUTH OF WACO | P O BOX 978, 1001 WASHINGTON, WACO, TX 76703 | 72 | 133,118
HAMPTON REDEV'T & HSG AUTH | P O BOX 280, HAMPTON, VA 23669 | 142 | 556,705
VIRGINIA HSG DEV'T AUTH | 601 S BELVIDERE ST, RICHMOND, VA 23220 | 81 | 347,026
HSG AUTH OF THE CITY OF RICHLAND | 650 GEORGE WASHINGTON WAY, P O BOX 190, RICHLAND, WA 99352 | 20 | 113,280
HSG AUTH OF THE CITY OF TACOMA | 902 SOUTH “L” ST, TACOMA, WA 98405 | 61 | 219,057
HSG AUTH OF THE CITY OF WALLA WALLA | 501 CAYUSE ST, WALLA WALLA, WA 99362 | 13 | 38,403
OSHKOSH HSG AUTH | 600 MERRITT ST, OSHKOSH, WI 54901 | 16 | 43,190
Total for Preservations/Prepayments |  | 9,988 | 48,350,009
Property Disposition Relocation
HSG AUTH GREENVILLE | P O BOX 521, GREENVILLE, AL 36037 | 76 | 217,970
COUNTY OF LOS ANGELES HSG AUTH | 2 CORAL CIR, MONTEREY PARK, CA 91754 | 8 | 59,010
COUNTY OF TEHAMA | P O BOX 8263, RED BLUFF, CA 96080 | 94 | 260,744
CITY OF HARTFORD | 10 PROSPECT ST, HARTFORD, CT 06103 | 12 | 78,616
HSG AUTH OF CITY OF NEW HAVEN | 360 ORANGE ST, NEW HAVEN, CT 06511 | 65 | 715,464
WATERBURY HSG AUTH | 2 LAKEWOOD RD, WATERBURY, CT 06704 | 112 | 719,480
DC HSG AUTH | 1133 NORTH CAPITOL ST NE, WASHINGTON, DC 20002 | 20 | 137,335
CITY OF FORT MYERS | P O DRAWER 2217, FORT MYERS, FL 33902 | 36 | 187,655
HSG AUTH FORT LAUDERDALE CITY | 437 S W 4TH AVE, FORT LAUDERDALE, FL 33315 | 68 | 459,335
MUNICIPAL HSG AGCY | 505 SOUTH SIXTH ST, COUNCIL BLUFFS, IA 51503 | 100 | 481,559
WATERLOO HSG AUTH | CARNEGIE ANNEX, STE 102, 620 MULBERRY ST, WATERLOO, IA 50703 | 126 | 609,827
CHICAGO HSG AUTH | 626 WEST JACKSON BLVD, CHICAGO, IL 60661 | 220 | 1,689,958
INDIANAPOLIS HSG AGCY | 1919 N MERIDIAN ST, INDIANAPOLIS, IN 46202 | 94 | 473,862
COWLEY COUNTY PUBLIC HSG AUTH | P O BOX 1122, ARKANSAS CITY, KS 67005 | 44 | 76,069
KENTUCKY HSG CORPORATION | 1231 LOUISVILLE RD, FRANKFORT, KY 40601 | 56 | 216,645
EAST BATON ROUGE PH. HSG AUTH | 4546 NORTH ST, BATON ROUGE, LA 70806 | 74 | 294,208
JEFFERSON PARISH HSG AUTH | 1718 BETTY ST, MARRERO, LA 70072 | 500 | 2,020,524
LAFOURCHE PH. HSG COUNCIL, SEC. 8 | P O BOX 499, RACELAND, LA 70394 | 108 | 495,983
BALTIMORE CO HSG OFFICE | ONE INVESTMENT PL, STE P3, TOWSON, MD 21204 | 14 | 79,995
HSG AUTH OF BALTIMORE CITY | 417 E FAYETTE ST, BALTIMORE, MD 21202 | 94 | 428,725
DETROIT HSG COMMISSION | 2211 ORLEANS, DETROIT, MI 48207 | 205 | 551,025
FLINT HSG COMMISSION | 3820 RICHFIELD RD, FLINT, MI 48506 | 35 | 122,203
NW MN MULTI-COUNTY HRA | P O BOX 128, MENTOR, MN 56736 | 20 | 48,648
STEVENS COUNTY HRA | STEVENS COUNTY COURTHOUSE, MORRIS, MN 56267 | 26 | 61,418
WORTHINGTON HRA | 819 TENTH ST, WORTHINGTON, MN 56187 | 25 | 62,745
HSG AUTH OF KANSAS CITY, MISSOURI | 712 BROADWAY, KANSAS CITY, MO 64105 | 152 | 455,313
LINCOLN COUNTY PUB HSG AGCY | 16 NORTH CT, BOWLING GREEN, MO 63334 | 104 | 560,616
ST. LOUIS COUNTY HSG AUTH | 8865 NATURAL BRIDGE, ST. LOUIS, MO 63121 | 314 | 1,703,674
MISS REGIONAL HSG AUTH VI | P O DRAWER 8746, JACKSON, MS 39284 | 148 | 800,936
NEW HAMPSHIRE HSG FINANCE AUTH | P O BOX 5087, MANCHESTER, NH 03108 | 8 | 43,200
NEW JERSEY DEPT OF COMMUNITY AFFAIRS | 101 SOUTH BROAD ST, P O BOX 051, TRENTON, NJ 08625 | 40 | 284,052
NEWARK HSG AUTH | 57 SUSSEX AVE, NEWARK, NJ 07103 | 50 | 410,496
NEW YORK CITY HSG AUTH | 250 BROADWAY, NEW YORK, NY 10007 | 374 | 3,226,463
DAYTON METRO HSG AUTH | 400 WAYNE AVE, P O BOX 8750, DAYTON, OH 45401 | 70 | 333,763
HSG AUTH CITY OF PITTSBURGH | 200 ROSS ST, ATTN: RAINBOW LIN, PITTSBURGH, PA 15219 | 151 | 883,242
PROVIDENCE HSG AUTH | 100 BROAD ST, PROVIDENCE, RI 02903 | 251 | 1,472,281
ABERDEEN HSG & REDEV'T COMMISSION | 2324 3RD AVE SE, ABERDEEN, SD 57401 | 24 | 59,982
HSG AUTH JACKSON | P O BOX 3188, JACKSON, TN 38301 | 138 | 391,325
HSG AUTH MEMPHIS | 700 ADAMS AVE, P O BOX 3664, MEMPHIS, TN 38103 | 83 | 340,839
TENNESSEE HSG DEV AGCY | 404 JAMES ROBERTSON PKWY, STE 1114, NASHVILLE-DAVIDSON, TN 37243 | 40 | 43,891
HSG AUTH OF THE CITY OF BECKVILLE | P O BOX 38, BECKVILLE, TX 75631 | 32 | 99,179
PANOLA COUNTY HSG AUTH | P O BOX 38, MONROE & MADISON, BECKVILLE, TX 75631 | 32 | 49,590
Total for Property Disposition Relocation |  | 4,243 | 21,707,845
Public Housing Relocation/Replacement
BRIDGEPORT HSG AUTH | 150 HIGHLAND AVE, BRIDGEPORT, CT 06604 | 183 | 1,124,746
SPRINGFIELD HSG AUTH | 200 N ELEVENTH ST, SPRINGFIELD, IL 62705 | 503 | 2,752,306
LEXINGTON-FAYETTE COUNTY HSG AUTH | 300 NEW CIRCLE RD, LEXINGTON, KY 40505 | 125 | 488,496
LYCOMING COUNTY HSG AUTH | 1941 LINCOLN DR, WILLIAMSPORT, PA 17701 | 138 | 424,530
PHILADELPHIA HSG AUTH | 12 SOUTH 23RD ST, PHILA, PA 19103 | 179 | 1,354,068
CHATTANOOGA HSG AUTH | P O BOX 1486, CHATTANOOGA, TN 37402 | 69 | 334,586
METRO DEV'T & HSG AGNCY | 701 SOUTH SIXTH ST, P O BOX 846, NASHVILLE, TN 37202 | 65 | 410,034
Total for Public Housing Relocation/Replacement |  | 1,262 | 6,888,766
Section 8 Counseling
PORTSMOUTH REDEV'T & HSG AUTH | P O BOX 1098, 339 HIGH ST, PORTSMOUTH, VA 23705 | 0 | 128,000
Total for Section 8 Counseling |  | 0 | 128,000
Terminations/Opt-outs
DOTHAN HSG AUTH | P O BOX 1727, DOTHAN, AL 36302 | 24 | 86,976
HSG AUTH JEFFERSON CO | 3700 INDUSTRIAL PKWY, BIRMINGHAM, AL 35217 | 26 | 104,832
FAYETTEVILLE HSG AUTH | 1 NORTH SCHOOL AVE, FAYETTEVILLE, AR 72701 | 25 | 93,381
HARRISON HSG AGCY | P O BOX 1715, HARRISON, AR 72602 | 56 | 122,079
CITY OF GLENDALE HSG AUTH | 6842 NORTH 61ST AVE, GLENDALE, AZ 85301 | 31 | 162,360
CITY OF PHOENIX | NEIGH'D IMPROV'T HSG D, 251 W WASHINGTON ST, 4TH FL, PHOENIX, AZ 85034 | 60 | 324,720
CITY OF YUMA HSG AUTH | 1350 W COLORADO ST, YUMA, AZ 85364 | 80 | 490,358
CALIFORNIA DEPT OF HSG AND COMM DEV | 1800 THIRD ST, P O BOX 952054 (MS 390-4), SACRAMENTO, CA 94252 | 81 | 352,230
CITY OF BALDWIN PARK HSG AUTH | 14403 E PACIFIC AVE, BALDWIN PARK, CA 91706 | 74 | 384,744
CITY OF FAIRFIELD | 823-B JEFFERSON ST, FAIRFIELD, CA 94533 | 13 | 85,020
CITY OF FRESNO HSG AUTH | 1331 FULTON MALL, FRESNO, CA 93776 | 88 | 296,182
CITY OF HAWTHORNE | 4455 W 126TH ST, HAWTHORNE, CA 90250 | 18 | 101,952
CITY OF LOS ANGELES HSG AUTH | 2600 WILSHIRE BLVD, LOS ANGELES, CA 90057 | 50 | 248,562
CITY OF PASADENA COMMUNITY DEV'T COMM | 100 N GARFIELD AVE, PASADENA, CA 91109 | 111 | 522,216
CITY OF PITTSBURG HSG AUTH | 65 CIVIC AVE, PITTSBURG, CA 94565 | 77 | 811,580
CITY OF REDDING HSG AUTH | P O BOX 496071, REDDING, CA 96049 | 48 | 195,840
CITY OF ROSEVILLE HSG AUTH | 405 VERNON ST, STE 1, ROSEVILLE, CA 95678 | 30 | 145,586
CITY OF SACRAMENTO HSG AUTH | 630 I ST, SACRAMENTO, CA 95814 | 73 | 366,998
CO OF BUTTE HSG AUTH | 580 VALLOMBROSA AVE, CHICO, CA 95926 | 39 | 153,036
CO OF CONTRA COSTA HSG AUTH | 3133 ESTUDILLO ST, P O BOX 2759, MARTINEZ, CA 94553 | 130 | 802,261
CO OF MERCED HSG AUTH | 405 U ST, MERCED, CA 95340 | 14 | 53,914
CO OF ORANGE HSG AUTH | 1770 NORTH BROADWAY, SANTA ANA, CA 92706 | 19 | 149,533
CO OF RIVERSIDE HSG AUTH | 5555 ARLINGTON AVE, RIVERSIDE, CA 92504 | 2 | 13,321
CO OF SACRAMENTO HSG AUTH | 630 I ST, SACRAMENTO, CA 95814 | 74 | 395,326
CO OF SANTA CLARA HSG AUTH | 505 WEST JULIAN ST, SAN JOSE, CA 95110 | 110 | 1,061,277
HSG AUTH CO OF KERN | 525 ROBERTS LANE, BAKERSFIELD, CA 93308 | 185 | 705,709
OAKLAND HSG AUTH | 1619 HARRISON ST, OAKLAND, CA 94612 | 72 | 613,817
SAN DIEGO HSG COMMISSION | 1625 NEWTON AVE, SAN DIEGO, CA 92113 | 1 | 9,454
SAN JOSE HSG AUTH | 505 WEST JULIAN ST, SAN JOSE, CA 95110 | 281 | 3,433,929
YOLO CO HSG AUTH | 1224 LEMEN AVE, P O BOX 1867, WOODLAND, CA 95776 | 39 | 252,361
COLORADO DIVISION OF HSG | 1313 SHERMAN ST R00M 323, DENVER, CO 80203 | 167 | 1,464,171
COLORADO SPRINGS HSG AUTH | P O BOX 1575, COLORADO SPRINGS, CO 80903 | 38 | 195,812
LONGMONT HSG AUTH | 900 COFFMAN, STE C, LONGMONT, CO 80501 | 102 | 507,972
CITY OF HARTFORD | 10 PROSPECT ST, HARTFORD, CT 06103 | 9 | 47,434
NORWICH HSG AUTH | 10 WESTWOOD PARK, NORWICH, CT 06360 | 74 | 529,149
DC HSG AUTH | 1133 NORTH CAPITOL ST NE, WASHINGTON, DC 20002 | 132 | 1,089,730
HSG AUTH NEW SMYRNA BEACH | P O BOX 688, NEW SMYRNA BEACH, FL 32170 | 45 | 13,410
HSG AUTH OF JACKSONVILLE | 1300 BROAD ST, JACKSONVILLE, FL 32202 | 108 | 675,723
MIAMI DADE HSG AUTH | 1401 NW 7TH ST, MIAMI, FL 33125 | 502 | 3,307,176
ORLANDO HSG AUTH | 300 REEVES CT, ORLANDO, FL 32801 | 12 | 62,352
HSG AUTH ATLANTA GA | 739 WEST PEACHTREE ST NE, ATLANTA, GA 30308 | 90 | 613,440
HSG AUTH SAVANNAH | P O BOX 1179, SAVANNAH, GA 31402 | 111 | 532,450
CITY AND COUNTY OF HONOLULU | DEPT OF COMM & SOCIAL SERVIC, 715 SOUTH KING ST, STE, HONOLULU, HI 96813 | 27 | 231,012
CO OF HAWAII | OFFICE OF HSG & COMM DEV, 50 WAILUKU DR, HILO, HI 96720 | 4 | 19,591
AREA XV MULTI-COUNTY HSG AGCY | 417 NORTH COLLEGE, P O BOX 276, AGENCY, IA 52530 | 24 | 74,304
CITY OF CLINTON, IOWA HSG AUTH | 215 6TH AVE S STE 33, CLINTON, IA 52732 | 56 | 190,371
DES MOINES MUNICIPAL HSG AGCY | 1101 CROCKER, DES MOINES, IA 50309 | 118 | 374,034
KEOKUK LOW RENT HSG AGCY | 111 SOUTH 2ND ST, KEOKUK, IA 52632 | 40 | 131,520
NORTHWEST IOWA REGIONAL HSG AUTH | P O BOX 6207, SPENCER, IA 51301 | 15 | 47,777
REGIONAL HSG AUTH-VOUCHER XII | 108 WEST 6TH ST, P O BOX 663, CARROLL, IA 51401 | 36 | 153,836
SIOUXLAND REGIONAL HSG AUTH | 314 COMMERCE BLDG, SIOUX CITY, IA 51101 | 59 | 234,546
WARREN CO HSG AUTH | 217 WEST SALEM, P O BOX 456, INDIANOLA, IA 50125 | 2 | 9,648
CHICAGO HSG AUTH | 626 WEST JACKSON BLVD, CHICAGO, IL 60661 | 528 | 4,188,669
DUPAGE CO ILLINOIS | 128A S COUNTY FARM RD, WHEATON, IL 60187 | 22 | 160,776
LAKE CO HSG AUTH | 33928 N ROUTE 45, GRAYSLAKE, IL 60030 | 55 | 390,060
PEORIA HSG AUTH | 100 S SHERIDAN RD, PEORIA, IL 61605 | 3 | 17,880
SPRINGFIELD HSG AUTH | 200 N ELEVENTH ST, SPRINGFIELD, IL 62705 | 28 | 148,453
DIVISION OF FAMILY AND CHILDREN | HOUSING & COMMUNITY SERVICES, P O BOX 6116, INDIANAPOLIS, IN 46206 | 61 | 218,136
HSG AUTH CITY OF EVANSVILLE | P O BOX 3605, 500 COURT ST, EVANSVILLE, IN 47735 | 77 | 360,949
HSG AUTH CITY OF MISHAWAKA | P O BOX 1347, MISHAWAKA, IN 46546 | 4 | 21,564
HSG AUTH OF THE CITY OF MARION | 601 SOUTH ADAMS ST, MARION, IN 46953 | 145 | 430,415
INDIANAPOLIS HSG AGCY | 1919 N MERIDIAN ST, INDIANAPOLIS, IN 46202 | 204 | 1,187,840
HSG AUTH OF THE CITY OF LEAVENWORTH | 200 SHAWNEE, LEAVENWORTH, KS 66048 | 87 | 301,340
JOHNSON CO HSG AUTH | 9305 W 74TH ST, MERRIAM, KS 66204 | 5 | 24,958
LEXINGTON-FAYETTE CO HSG AUTH | 300 NEW CIRCLE RD, LEXINGTON, KY 40505 | 8 | 48,008
JEFFERSON PARISH HSG AUTH | 1718 BETTY ST, MARRERO, LA 70072 | 86 | 468,638
ST. MARTIN PARISH GOVERNMENT HSG DEPT | 118 HONORE ST, ST. MARTINVILLE, LA 70582 | 77 | 470,322
BOSTON HSG AUTH | 52 CHAUNCY ST, BOSTON, MA 02111 | 310 | 2,643,130
ANNAPOLIS HSG AUTH | 1217 MADISON ST, ANNAPOLIS, MD 21403 | 57 | 228,456
ANNE ARUNDEL COUNTY HSG AUTH | 7885 GORDON CT, P O BOX 0817, GLEN BURNIE, MD 21060 | 40 | 342,305
BALTIMORE CO HSG OFFICE | ONE INVESTMENT PL, STE P3, TOWSON, MD 21204 | 75 | 379,800
DEPT OF HSG & COMMUNITY DEV'T | 100 COMMUNITY PL, CROWNSVILLE, MD 21032 | 23 | 109,704
HAGERSTOWN HSG AUTH | 35 WEST BALTIMORE ST, HAGERSTOWN, MD 21740 | 39 | 161,890
HOWARD CO HSG COMMISSION | 6751 COLUMBIA GATEWAY DR, COLUMBIA, MD 21044 | 11 | 41,386
HSG AUTH OF BALTIMORE CITY | 417 E FAYETTE ST, BALTIMORE, MD 21202 | 946 | 3,450,652
HSG AUTH PRINCE GEORGES CO | 9400 PEPPERCORN PL, STE 200, LARGO, MD 20774 | 307 | 2,777,736
MONTGOMERY CO HSG AUTH | 10400 DETRICK AVE, KENSINGTON, MD 20895 | 173 | 1,542,468
ANN ARBOR HSG COMMISSION | 727 MILLER AVE, ANN ARBOR, MI 48103 | 136 | 878,516
DETROIT HSG COMMISSION | 2211 ORLEANS, DETROIT, MI 48207 | 552 | 3,068,142
LANSING HSG COMMISSION | 310 NORTH SEYMOUR ST, LANSING, MI 48933 | 69 | 348,843
LINCOLN PARK HSG COMMISSION | 1356 ELECTRIC, LINCOLN PARK, MI 48146 | 29 | 142,314
LIVONIA HSG COMMISSION | 19300 PURLINGBROOK RD, LIVONIA, MI 48152 | 8 | 37,175
MICHIGAN STATE HSG DEV'T AUTH | 401 S WASHINGTON SQ, LANSING, MI 48909 | 409 | 2,413,218
MICHIGAN STATE HSG DEV'T AUTH | P O BOX 30044, LANSING, MI 48909 | 88 | 422,363
PORT HURON HSG COMMISSION | 905 SEVENTH ST, PORT HURON, MI 48060 | 7 | 30,254
ROSEVILLE HSG COMMISSION | 18330 EASTLAND, ROSEVILLE, MI 48066 | 131 | 778,236
TRAVERSE CITY HSG COMM | 10200 EAST CARTER CENTRE, TRAVERSE CITY, MI 49684 | 66 | 292,248
CAMBRIDGE HRA | 121 SOUTH FERN ST, CAMBRIDGE, MN 55008 | 26 | 149,748
CHIPPEWA COUNTY HRA | CHIPPEWA COUNTY COURTHOUSE, 629 N 11TH ST, MONTEVIDEO, MN 56265 | 4 | 12,881
HSG AUTH OF KANSAS CITY, MISSOURI | 712 BROADWAY, KANSAS CITY, MO 64105 | 20 | 96,265
LEES SUMMIT HSG AUTH | 111 SOUTH GRAND, LEES SUMMIT, MO 64063 | 16 | 71,838
ST. LOUIS CO HSG AUTH | 8865 NATURAL BRIDGE, ST. LOUIS, MO 63121 | 58 | 177,558
BUTTE HSG AUTH | CURTIS AND ARIZONA STS, BUTTE, MT 59701 | 11 | 44,831
FOUR SQUARE COMM ACT, INC | WEST END PLAZA, P O BOX 2290, ANDREWS, NC 28901 | 1 | 2,604
HSG AUTH DURHAM | 330 E MAIN ST, P O BOX 1726, DURHAM, NC 27702 | 16 | 108,207
HSG AUTH GRAHAM | 109 E HILL ST, P O BOX 88, GRAHAM, NC 27253 | 79 | 349,812
HSG AUTH GREENSBORO | 450 N CHURCH ST, P O BOX 21287, GREENSBORO, NC 27420 | 5 | 19,466
HSG AUTH OF THE CITY OF CHARLOTTE | P O BOX 36795, 1301 SOUTH BLVD, CHARLOTTE, NC 28236 | 35 | 171,102
HSG AUTH ROCKY MOUNT | 1006 AYCOCK ST, P O BOX 4717, ROCKY MOUNT, NC 27803 | 36 | 141,025
HSG AUTH WINSTON-SALEM | 901 CLEVELAND AVE, WINSTON-SALEM, NC 27101 | 74 | 352,232
ORANGE CO | 300 W TRYON ST, P O BOX 8181, HILLSBOROUGH, NC 27278 | 25 | 135,681
MORTON CO HSG AUTH | P O BOX 517, MANDAN, ND 58554 | 29 | 94,190
STARK CO HSG AUTH | 1149 WEST VILLARD, P O BOX 107, DICKINSON, ND 58602 | 24 | 66,240
BELLEVUE HSG AUTH | 8214 ARMSTRONG CIR, OMAHA, NE 68147 | 34 | 176,648
OMAHA HSG AUTH | 540 SOUTH 27TH ST, OMAHA, NE 68105 | 10 | 48,960
MANCHESTER HSG AUTH | 198 HANOVER ST, MANCHESTER, NH 03104 | 48 | 261,723
CAMDEN HSG AUTH | 1300 ADMIRAL WILSON BLVD, P O BOX 1426, CAMDEN, NJ 08101 | 69 | 572,819
NEW JERSEY DEPT OF COMMUNITY AFFAIRS | 101 SOUTH BROAD ST, P O BOX 051, TRENTON, NJ 08625 | 71 | 469,389
NEWARK HSG AUTH | 57 SUSSEX AVE, NEWARK, NJ 07103 | 307 | 2,672,960
ALBUQUERQUE HSG AUTH | 1840 UNIVERSITY BLVD SE, ALBUQUERQUE, NM 87106 | 22 | 117,531
LAS CRUCES HSG AUTH | 926 S SAN PEDRO, LAS CRUCES, NM 88001 | 53 | 245,225
CITY OF RENO HSG AUTH | 1525 EAST NINTH ST, RENO, NV 89512 | 0 | 21,288
CITY OF NIAGARA FALLS | COMMUNITY DEV DEPT, P O BOX 69, 1022 MAIN ST, NIAGARA FALLS, NY 14302 | 11 | 41,448
NEW YORK STATE HSG FINANCE AGCY | HSG & COMM RENEWAL—LA CAPRA, 25 BEAVER ST, RM 674, NEW YORK, NY 10004 | 333 | 2,777,473
CAMBRIDGE METRO HSG AUTH | 1100 MAPLE CT, P O BOX 1388, CAMBRIDGE, OH 43725 | 92 | 264,952
CHILLICOTHE MET HSG AUTH | 178 WEST FOURTH ST, CHILLICOTHE, OH 45601 | 77 | 332,272
CINCINNATI METRO HSG AUTH | 16 WEST CENTRAL PKWY, CINCINNATI, OH 45210 | 267 | 841,429
COLUMBUS METRO HSG AUTH | 880 EAST 11TH AVE, COLUMBUS, OH 43211 | 203 | 1,122,730
CRAWFORD METRO HSG AUTH | P O BOX 1029, MANSFIELD, OH 44901 | 45 | 212,262
CUYAHOGA METRO HSG AUTH | 1441 WEST 25TH ST, CLEVELAND, OH 44113 | 40 | 192,372
GREENE METRO HSG AUTH | 538 NORTH DETROIT ST, XENIA, OH 45385 | 95 | 596,480
HAMILTON CO PUBLIC HSG | 138 EAST COURT ST, RM 507, CINCINNATI, OH 45202 | 323 | 940,420
LICKING METRO HSG AUTH | 85 WEST CHURCH, NEWARK, OH 43055 | 64 | 405,269
LUCAS METRO HSG AUTH | P O BOX 477, 435 NEBRASKA AVE, TOLEDO, OH 43602 | 23 | 104,466
PICKAWAY METRO HSG AUTH | 176 RUSTIC DR, CIRCLEVILLE, OH 43113 | 60 | 395,769
WAYNE METRO HSG AUTH | 200 SOUTH MARKET ST, WOOSTER, OH 44691 | 42 | 186,142
WILLIAMS METRO HSG AUTH | 1044 CHELSEA AVE, NAPOLEON, OH 43545 | 6 | 14,641
YOUNGSTOWN METRO HSG AUTH | 131 WEST BOARDMAN ST, YOUNGSTOWN, OH 44503 | 147 | 447,933
OKLAHOMA HSG FINANCE AGCY | P O BOX 26720, OKLAHOMA CITY, OK 73126 | 5 | 20,520
HSG AUTH OF DOUGLAS CO | 902 WEST STANTON ST, ROSEBURG, OR 97470 | 18 | 73,128
HSG AUTH OF PORTLAND | 135 SW ASH ST, PORTLAND, OR 97204 | 6 | 41,258
HSG AUTH OF THE CO OF CLACKAMAS | P O BOX 1510, OREGON CITY, OR 97045 | 24 | 167,470
HSG AUTH OF WASHINGTON CO | 111 NE LINCOLN ST, STE 200-L, MS63, HILLSBORO, OR 97124 | 23 | 154,274
LINN-BENTON HSG AUTH | 1250 SE QUEEN AVE, ALBANY, OR 97321 | 6 | 34,722
BUCKS COUNTY HSG AUTH | 350 SOUTH MAIN ST, STE 205, DOYLESTOWN, PA 18901 | 249 | 972,814
JOHNSTOWN HSG AUTH | 501 CHESTNUT ST, JOHNSTOWN, PA 15907 | 18 | 71,712
RHODE ISLAND HSG MORT FIN CORP | 44 WASHINGTON ST, PROVIDENCE, RI 02903 | 10 | 67,201
CHARLESTON COUNTY HSG REDVEL AUTH | P O BOX 6188, CHARLESTON, SC 29405 | 12 | 54,144
HSG AUTH AIKEN | P O BOX 889, AIKEN, SC 29802 | 19 | 87,601
HSG AUTH COLUMBIA | 1917 HARDEN ST, COLUMBIA, SC 29204 | 32 | 166,272
HSG AUTH FLORENCE | P O DRAWER 969, FLORENCE, SC 29503 | 9 | 34,716
HSG AUTH GREENVILLE | P O BOX 10047, GREENVILLE, SC 29603 | 80 | 373,575
HSG AUTH UNION | P O DRAWER 440, UNION, SC 29379 | 19 | 62,260
S C STATE HSG FINANCE & DEV | 919 BLUFF RD, COLUMBIA, SC 29201 | 24 | 116,235
HSG AUTH MEMPHIS | 700 ADAMS AVE, P O BOX 3664, MEMPHIS, TN 38103 | 84 | 347,483
METRO DEV'T & HSG AGNCY | 701 SOUTH SIXTH ST, P O BOX 846, NASHVILLE, TN 37202 | 21 | 107,773
TENNESSEE HSG DEV AGCY | 404 JAMES ROBERTSON PKWY, STE 1114, NASHVILLE-DAVIDSON, TN 37243 | 85 | 329,815
ARLINGTON HSG AUTH | 501 W SANFORD, STE 20, ARLINGTON, TX 76011 | 23 | 70,202
DALLAS CO HSG ASSIST PGM | 2377 N STEMMONS FRWY, STE 200—LB 16, DALLAS, TX 75207 | 141 | 1,071,126
DENTON HSG AUTH | 308 S RUDDELL, DENTON, TX 76205 | 133 | 983,979
FORT WORTH HSG AUTH | P O BOX 430, 1201 E 13TH. ST, FORT WORTH, TX 76101 | 8 | 40,786
GRAND PRAIRIE HSNG & COMM DEV'T | P O BOX 534045, 201 NW 2ND. ST, STE 150, GRAND PRAIRIE, TX 75053 | 135 | 1,119,824
HSG AUTH OF BEAUMONT | P O BOX 1312, 4925 CONCORD RD, BEAUMONT, TX 77704 | 25 | 108,489
HSG AUTH OF DALLAS | 3939 N HAMPTON RD, DALLAS, TX 75212 | 97 | 776,821
HSG AUTH OF NACOGDOCHES | 715 SUMMIT ST, NACOGDOCHES, TX 75961 | 20 | 87,360
HSG AUTH OF ODESSA | P.O. DRAWER 154, 124 E SECOND ST, ODESSA, TX 79760 | 99 | 531,036
HSGTON HSG AUTH | 2640 FOUNTAIN VIEW, HOUSTON, TX 77057 | 224 | 1,603,323
PASADENA (CITY OF) | P O BOX 672, PASADENA, TX 77501 | 16 | 76,256
ROSENBERG HSG AUTH | 927 SECOND ST, ROSENBERG, TX 77471 | 136 | 610,213
SAN ANTONIO HSG AUTH | 818 S FLORES ST, P O BOX 1300, SAN ANTONIO, TX 78295 | 71 | 403,731
TARRANT CO HSG ASSIST PGM | 1200 CIRCLE DR, #100, FORT WORTH, TX 76119 | 44 | 215,424
TEXAS CITY HSG AUTH | 817 SECOND AVE NORTH, TEXAS CITY, TX 77590 | 43 | 245,689
TEXAS DEPT HSG & COMMUNITY AFFAIRS | P O BOX 13941, 507 SABINE, AUSTIN, TX 78711 | 46 | 354,125
WEATHERFORD HSG AUTH | 1128 FORT WORTH HIGHWAY, WEATHERFORD, TX 76086 | 10 | 46,895
WICHITA FALLS HSG ASSIST PGM | P O BOX 1431, 1300 SEVENTH ST, WICHITA FALLS, TX 76307 | 5 | 15,527
HSG AUTH OF CITY OF OGDEN | 2661 WASHINGTON BLVD, STE 102, OGDEN, UT 84401 | 18 | 120,192
HSG AUTH OF SALT LAKE CITY | 1776 SW TEMPLE, SALT LAKE CITY, UT 84115 | 8 | 63,984
VIRGINIA HSG DEV'T AUTH | 601 S BELVIDERE ST, RICHMOND, VA 23225 | 152 | 662,112
HSG AUTH OF ISLAND CO | 7 NORTHWEST 6TH ST, COUPEVILLE, WA 98239 | 18 | 122,855
HSG AUTH OF THURSTON CO | 505 WEST FOURTH AVE, OLYMPIA, WA 98501 | 12 | 86,157
KING CO HSG AUTH | 15455-65TH AVE S, TUKWILA, WA 98188 | 8 | 40,970
SPOKANE HSG AUTH | WEST 55 MISSION ST, STE 104, SPOKANE, WA 99201 | 25 | 102,900
DOOR CO HSG AUTH | 57 N 12TH AVE, STURGEON BAY, WI 54235 | 54 | 125,064
HSG AUTH OF THE CITY OF MILWAUKEE | P O BOX 324, MILWAUKEE, WI 53201 | 28 | 116,592
THE CITY OF FAIRMONT HSG AUTH | 517 FAIRMONT AVE, FAIRMONT, WV 26554 | 19 | 68,211
HSG AUTH OF THE CITY OF CHEYENNE | 3304 SHERIDAN AVE, CHEYENNE, WY 82009 | 9 | 37,707
Total for Terminations/Opt-outs |  | 13,840 | 80,218,660
Grand Total |  | 29,333 | 157,293,280

[FR Doc. 01-4688 Filed 2-26-01; 8:45 am]

BILLING CODE 4210-33-P